DEPARTMENT OF EDUCATION

[CFDA No: 84.031S]

Office of Postsecondary Education, Institutional Development and Undergraduate Educational Services

ACTION: Notice Announcing Technical Assistance Workshops for fiscal year (FY) 2007 Developing Hispanic-Serving Institutions (HSI) program.

SUMMARY: This notice provides information about seven one-day technical assistance workshops to assist institutions of higher education interested in preparing grant applications for FY 2007 new awards under the HSI program. Staff will present information about the purpose of the HSI program, selection criteria, application content, submission procedures, and reporting requirements.

Although the Department has not yet announced an application deadline date in the Federal Register for the FY 2007 competition, the Department is holding these workshops to give potential applicants guidance for preparing applications for the competition we expect to conduct in FY 2007. Specific requirements for the FY 2007 competition will be published in a separate Federal Register notice. This notice announces the technical assistance workshops only.

FOR FURTHER INFORMATION CONTACT: Josephine Hamilton, Team Leader or Carlin Hertz, Developing Hispanic-Serving Institutions (HSI) program, U.S. Department of Education, 1990 K Street, NW., room 6052, Washington, DC 20006-8513. Telephone: (202) 502-7777.

If you use a telecommunications device for the deaf (TDD), you may call the Federal Relay Service (FRS) at 1-800-877-8339.

Individuals with disabilities may obtain this document in an alternative format (e.g., Braille, large print, audio tape, or computer diskette) on request to the contact person listed in this section.

Registration information and the registration form for the technical assistance workshops will be posted on the Internet at the following site: http://www.ed.gov/programs/idueshsi/index.html.

SUPPLEMENTARY INFORMATION: The technical assistance workshops will be held as follows:

1. Washington, DC: Wednesday, January 10, 2007. U.S. Department of Education, 400 Maryland Avenue, SW., Barnard Auditorium, Washington, DC 20202.

2. Santurce, Puerto Rico: Wednesday, January 17, 2007. Sacred Heart University, Avenida Eduardo Conde, Library Conference Room, Santurce, Puerto Rico 00909.

3. Cayey, Puerto Rico: Thursday, January 18, 2007. University of Puerto Rico, Avenida Barcelo, Cayey, Puerto Rico 00736.

4. Norwalk, California: Monday, January 22, 2007. Cerritos College, 11110 Alandra Boulevard, Learning Resource Center, Room LCC 155, Norwalk, California 90650.

5. Santa Fe, New Mexico: Wednesday, January 24, 2007. Santa Fe Community College, 6401 Richards Avenue, Administration Building: Jemez Room, Santa Fe, New Mexico 87508.

6. San Antonio, Texas: Monday, January 29, 2007. University of Texas at San Antonio, One UTSA Circle, Business Building, University Room BB 2.06.04, San Antonio, Texas 78249.

7. El Paso, Texas: Wednesday, January 31, 2007. El Paso Community College, 9050 Viscount Boulevard, Administration Services Center, El Paso, Texas 79927.

All Technical Assistance Workshop sessions will be conducted from 8 a.m.-5 p.m. each day. Please contact the Department of Education contact persons listed under FOR FURTHER INFORMATION CONTACT if you have any questions about the details of the workshops. You will need to pre-register at our Web site listed under FOR FURTHER INFORMATION CONTACT; however, there is no registration fee. We encourage attendance from those who will be responsible for submitting the application electronically using the Grants.gov Apply site.

Assistance to Individuals With Disabilities Attending the Technical Assistance Workshop

The technical assistance workshop sites are accessible to individuals with disabilities. If you need an auxiliary aid or service to participate in a workshop (e.g., interpreting service, assistive listening device, or materials in an alternative format), notify the person(s) listed under FOR FURTHER INFORMATON CONTACT at least two weeks before the scheduled workshop date. Although we will attempt to meet a request received after that date, we may not be able to make the requested auxiliary aid or service available because of insufficient time to arrange it.

Electronic Access to This Document

You may view this document, as well as other documents of this Department published in the Federal Register, in text or Adobe Portable Document Format (PDF) on the Internet at the following site: http://www.ed.gov/news/fedregister.

To use PDF, you must have Adobe Acrobat Reader, which is available free at this site. If you have any questions about using the PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.gpoaccess.gov/nara/index.html.

Program Authority: 20 U.S.C. 1101.

Dated: December 20, 2006.
James F. Manning,
Delegated the Authority of Assistant Secretary for Postsecondary Education.

[FR Doc. E6-22075 Filed 12-22-06; 8:45 am]

BILLING CODE 4000-01-P